ENVIRONMENTAL PROTECTION AGENCY

[FRL-8922-8]

EPA Launches NetDMR

AGENCY: Environmental Protection Agency (EPA).

ACTION: Notice.

SUMMARY: Clean Water Act Discharge Monitoring Reports (DMRs) represent the highest volume of information collection undertaken by the Environmental Protection Agency (EPA). EPA Regions and select States, Tribes, and Territories will have a new tool available to assist their regulated National Pollutant Discharge Elimination System (NPDES) facilities in reporting DMRs beginning June 22, 2009. Additional States, Tribes, and Territories may adopt Network Discharge Monitoring Report (NetDMR) and enable their regulated NPDES facilities to begin utilizing the electronic reporting tool. NetDMR provides an Internet-based reporting tool for NPDES facilities to electronically sign and submit DMRs. NetDMR allows participants to discontinue mailing in hard copy forms under 40 CFR 122.41 and 403.12.

DATES: The NetDMR application is available beginning June 22, 2009.

FOR FURTHER INFORMATION CONTACT: Allison Donohue, U.S. Environmental Protection Agency, Office of Enforcement and Compliance Assurance, Mail Stop 2222A, 1200 Pennsylvania Avenue, NW., Washington, DC 20460, (202) 564-2195, donohue.allison@epa.gov.

SUPPLEMENTARY INFORMATION:

What Action Is EPA Taking?

A. Background

NetDMR will, for the first time, provide a national tool for regulated Clean Water Act permittees to submit and sign Discharge Monitoring Reports (DMRs) electronically via a secure Internet application to U.S EPA through the Environmental Information Exchange Network. The transition from paper to electronic reporting significantly reduces the burden on States, Tribes, Territories, and the regulated community. NetDMR is consistent with the standards in the Cross-Media Electronic Reporting Regulation (CROMERR) § 3.2000, including the § 3.2000(b)(5) standards for electronic signatures and identify-proofing for “priority reports.” An essential component of NetDMR is the exchange of data with EPA's Integrated Compliance Information System, which allows permittees to complete a DMR that is specific to their permit limits and outfalls.

B. Today's Action

On June 22, 2009, EPA Region 1 (New Hampshire and Massachusetts), EPA Region 3 (District of Columbia), EPA Region 6 (Gulf of Mexico), Utah and Louisiana will begin utilizing NetDMR.

C. How Can I Get Other Related Information?

Additional information on NetDMR can also be found at http://www.epa.gov/netdmr.

Lisa Lund,
Director, Office of Compliance.

[FR Doc. E9-14868 Filed 6-23-09; 8:45 am]

BILLING CODE 6560-50-P